DEPARTMENT OF COMMERCE

International Trade Administration

[A-570-914]

Light-Walled Rectangular Pipe and Tube From the People's Republic of China: Preliminary Results and Partial Rescission of Antidumping Duty Administrative Review, and Preliminary Determination of No Shipments; 2022-2023

AGENCY: Enforcement and Compliance, International Trade Administration, Department of Commerce.

SUMMARY: The U.S Department of Commerce (Commerce) is conducting the administrative review of the antidumping duty (AD) order on light-walled rectangular pipe and tube (LWRPT) from the People's Republic of China (China). The period of review (POR) is August 1, 2022, through July 31, 2023. Commerce preliminarily finds that Hoa Phat Steel Pipe Company Limited (Hoa Phat) had no subject shipments of LWRPT and that Hoa Phat will be eligible to participate in the certification program previously established with respect to the AD order on LWRPT from China. In addition, we are rescinding this review with respect to Hangzhou Ailong Metal Product Co., Ltd. (Ailong). We invite interested parties to comment on these preliminary results.

DATES: Applicable September 13, 2024.

FOR FURTHER INFORMATION CONTACT: Paul Kebker, AD/CVD Operations, Office IV, Enforcement and Compliance, International Trade Administration, U.S. Department of Commerce, 1401 Constitution Avenue NW, Washington, DC 20230; telephone: (202) 482-2254.

SUPPLEMENTARY INFORMATION:

Background

On August 5, 2008, Commerce published in the Federal Register the AD order on LWRPT from China.¹ On August 2, 2023, Commerce notified interested parties of the opportunity to request an administrative review of the Order.² On August 30, 2023, Hoa Phat requested that Commerce conduct an administrative review of its exports to determine whether those exports are covered by the Order.³ In its review request, Hoa Phat elaborated that it sought an administrative review so that Commerce would permit it to submit certifications to U.S. Customs and Border Protection (CBP) to properly declare the origin of the hot-rolled steel (HRS) that it used to produce the LWRPT it exported.⁴ On August 31, 2023, GS Global USA, Inc. (GS Global) requested that Commerce conduct an administrative review of Hoa Phat's exports.⁵ On August 31, 2023, Ailong requested that Commerce conduct an administrative review of its exports.⁶

¹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Order).

² See Antidumping or Countervailing Duty Order, Finding, or Suspended Investigation; Opportunity To Request Administrative Review and Join annual Inquiry Service List, 88 FR 50840 (August 2, 2023).

³ See Hoa Phat Letter, “Request for Administrative Review,” dated August 30, 2023.

⁴ Id. As background, in Light-Walled Rectangular Pipe and Tube from the People's Republic of China: Preliminary Affirmative Determination of Circumvention of the Antidumping Duty and Countervailing Duty Orders, 88 FR 21985-21986 (April 12, 2023) (Preliminary Circumvention Determination), and accompanying Preliminary Decision Memorandum at 4-6, Commerce preliminarily determined that Hoa Phat had failed to cooperate in the circumvention proceeding and applied facts available with adverse inferences to determine that Hoa Phat was not eligible to participate in the certification regime established in the circumvention proceeding. In the final determination, Commerce continued to find that Hoa Phat was ineligible to participate in the certification regime. See Light-Walled Rectangular Pipe and Tube from the People's Republic of China: Final Affirmative Determination of Circumvention of the Antidumping Duty and Countervailing Duty Orders, 88 FR 77283 (November 9, 2023) (Final Circumvention Determination), and accompanying Issues and Decision Memorandum (IDM) at Comment 3.

⁵ See GS Global Letter, “Request for Administrative Review” dated August 31, 2023.

⁶ See Ailong Letter, “Request for Administrative Review—Hangzhou Ailong Metal Product Co.,” dated August 31, 2023.

Subsequently, we initiated an administrative review of the Order with respect to Ailong and Hoa Phat.⁷ On December 14, 2023, Commerce received a timely withdrawal of review request with respect to Ailong.⁸

⁷ See Initiation of Antidumping and Countervailing Duty Administrative Reviews, 88 FR 71829 (October 18, 2023).

⁸ See Ailong Letter, “Withdraw of Request for Administrative Review—Hangzhou Ailong Metal Product Co.” dated December 14, 2023 (Ailong Withdrawal Request).

On November 9, 2023, we published in the Federal Register the Final Circumvention Determination, in which we: (1) determined that certain LWRPT exported from the Socialist Republic of Vietnam (Vietnam) and entered into the United States was circumventing the Order and, therefore, is now covered by the Order; and (2) established a certification program to allow eligible producers and exporters of LWRPT exported from Vietnam to certify that entries of LWRPT exported from Vietnam are not subject to the Order.⁹ We also indicated that during the upcoming anniversary month of the Order (i.e., August) ¹⁰ we would allow interested parties to request reviews of LWRPT shipped from Vietnam and suspended under the Order.

⁹ See Final Circumvention Determination, 88 FR at 77284.

¹⁰ Id. 88 FR at 77285.

On April 11, 2024, Commerce extended the deadline for these preliminary results to August 30, 2024.¹¹ On June 22, 2024, Commerce tolled certain deadlines in this administrative proceeding by seven days.¹² The deadline for these preliminary results is now September 6, 2024. For details regarding the events that occurred subsequent to the initiation of the review, see the Preliminary Decision Memorandum.¹³

¹¹ See Memorandum, “Extension of Deadline for Preliminary Results of the Antidumping Duty Administrative Review,” dated April 11, 2024.

¹² See Memorandum, “Tolling of Deadlines for Antidumping and Countervailing Duty Proceedings,” dated July 22, 2024.

¹³ See Memorandum, “Decision Memorandum for the Preliminary Results of the Antidumping Duty Administrative Review of Light-Walled Rectangular Pipe and Tube from the People's Republic of China: 2022-2023,” dated concurrently with, and hereby adopted by, this notice (Preliminary Decision Memorandum).

Scope of the Order

The merchandise subject to this Order is certain welded carbon quality light-walled steel pipe and tube. A complete description of the scope of the Order is contained in the Preliminary Decision Memorandum.

Partial Rescission of Administrative Review

Pursuant to 19 CFR 351.213(d)(1), Commerce will rescind an administrative review, in whole or in part, if all parties that requested a review withdraw their requests within 90 days of the publication date of the notice of initiation of the requested review in the Federal Register. On December 14, 2023, Ailong timely withdrew its request for administrative review.¹⁴ Because no other party requested a review of Ailong, consistent with 19 CFR 351.213(d)(1), Commerce is rescinding this review, in part, with respect to Ailong.

¹⁴ See Ailong Withdrawal Request.

Methodology

Commerce is conducting this review in accordance with section 751(a)(1)(B) of the Tariff Act of 1930, as amended (the Act) and 19 CFR 351.213. For a full description of the methodology underlying these preliminary results, see the Preliminary Decision Memorandum. A list of the topics discussed in the Preliminary Decision Memorandum is included as the appendix to this notice. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Preliminary Determination of No Shipments

In this administrative review, we issued a questionnaire to Hoa Phat to gather information on the quantity and value (Q&V) of its shipments of LWRPT to the United States.¹⁵ We received a response to this questionnaire from Hoa Phat, in which it reported that its suspended entries consisted exclusively of non-subject merchandise.¹⁶ We issued supplemental questionnaires to Hoa Phat and received responses.¹⁷ We have analyzed the information in these responses and preliminarily find that Hoa Phat has provided information to support its claim that the LWRPT it exported to the United States is of non-subject LWRPT. Thus, if our preliminary finding is unchanged in the final results, Hao Phat Hoa will be eligible to participate in the certification program previously established with respect to the AD Order on LWRPT from China as of the publication date of the final results.

¹⁵ See Commerce's Letter, “Quantity and Value Questionnaire,” dated November 20, 2023; see also Memorandum, “Clarification of Companies Required to Submit Responses to Q&V Questionnaire,” dated November 28, 2023; and Commerce's Letters, “Request for Entry Information,” dated February 5, 2024 (collectively, Q&V Questionnaire).

¹⁶ See Hoa Phat's Letter, “Sections A, C, D Responses,” dated January 10, 2024 (Hoa Phat Initial Response) and Hoa Phat's Letter, “CBP Data Comments,” dated November 8, 2023 (CBP Data Comments).

¹⁷ See Commerce's Letter, “Supplemental Questionnaire,” dated February 13, 2024; and Commerce's Letter, “Second Supplemental Questionnaire,” dated March 29, 2024; see also Hoa Phat's Letter, “Supplemental Sections A, C, D Responses,” dated March 12, 2024 (Hoa Phat First Supplemental Response);and Hoa Phat's Letter, “Second Supplemental Questionnaire Response,” dated April 5, 2024 (Hoa Phat Second Supplemental Response).

China-Wide Entity

Under Commerce's policy regarding the conditional review of the China-wide entity,¹⁸ the China-wide entity will not be under review unless a party specifically requests, or Commerce self-initiates, a review of the entity. Because no party requested a review of the China-wide entity in this review, the entity is not under review, and the entity's rate (i.e., 255.07 percent) is not subject to change.¹⁹

¹⁸ See Antidumping Proceedings: Announcement of Change in Department Practice for Respondent Selection in Antidumping Duty Proceedings and Conditional Review of the Nonmarket Economy Entity in NME Antidumping Duty Proceedings, 78 FR 65963 (November 4, 2013).

¹⁹ See Implementation of Determinations Under Section 129 of the Uruguay Round Agreements Act: Certain New Pneumatic Off-the-Road Tires; Circular Welded Carbon Quality Steel Pipe; Laminated Woven Sacks; and Light-Walled Rectangular Pipe and Tube from the People's Republic of China, 77 FR 52683, 52688 (August 30, 2012); see also Order, 73 FR at 45403.

Verification

On January 26, 2024, Nucor Tubular Products Inc. requested that Commerce conduct verification of Hoa Phat pursuant to 19 CFR 351.307(b)(1)(v). Accordingly, Commerce intends to verify the information relied upon in making its final results for Hoa Phat.

Public Comment

Because Commerce intends to verify the questionnaire responses of Hoa Phat, the mandatory respondent in this review, interested parties will be notified of the deadline for the submission of case briefs at a later date.²⁰ Rebuttal briefs, limited to issues raised in case briefs, may be submitted no later than five days after the deadline date for case briefs.²¹

²⁰ See 19 CFR 351.309(c)(1)(ii); see also 19 CFR 351.303 (for general filing requirements).

²¹ See 19 CFR 351.309(d); see also Administrative Protective Order, Service, and Other Procedures in Antidumping and Countervailing Duty Proceedings, 88 FR 67069, 67077 (September 29, 2023) (APO and Service Final Rule).

Parties who submit case briefs or rebuttal briefs in this proceeding must submit with each argument: (1) a statement of the issue; (2) a brief summary of the argument; and (3) a table of authorities.²² As provided under 19 CFR 351.309(c)(2) and (d)(2), in prior proceedings we have encouraged interested parties to provide an executive summary of their brief that should be limited to five pages total, including footnotes. In this review, we instead request that interested parties provide at the beginning of their briefs a public, executive summary for each issue raised in their briefs.²³ Further, we request that interested parties limit their public executive summary of each issue to no more than 450 words, not including citations. We intend to use the public executive summaries as the basis of the comment summaries included in the issues and decision memorandum that will accompany the final determination in this review. We request that interested parties include footnotes for relevant citations in the public executive summary of each issue. Note that Commerce has amended certain of its requirements pertaining to the service of documents in 19 CFR 351.303(f).²⁴

²² See 19 CFR 351.309(c)(2) and (d)(2).

²³ We use the term “issue” here to describe an argument that Commerce would normally address in a comment of the IDM.

²⁴ See APO and Service Final Rule.

Pursuant to 19 CFR 351.310(c), interested parties who wish to request a hearing, limited to issues raised in the case and rebuttal briefs, must submit a written request to the Assistant Secretary for Enforcement and Compliance, U.S. Department of Commerce, within 30 days after the publication of this notice. Hearing requests should contain: (1) the party's name, address, telephone number; (2) the number of participants; and whether any participant is a foreign national; and (3) a list of the issues to be discussed. Issues raised in the hearing will be limited to issues raised in the case and rebuttal briefs. If a request for a hearing is made, Commerce intends to hold the hearing at a time and date to be determined and will notify the parties through ACCESS.²⁵ Parties should confirm the date, time, and location of the hearing two days before the scheduled date.

²⁵ See 19 CFR 351.310(c).

All submissions, including case and rebuttal briefs, as well as hearing requests, should be filed using ACCESS. An electronically-filed document must be received successfully in its entirety by ACCESS by 5:00 p.m. Eastern Time on the established deadline.

Assessment Rates

Upon issuance of the final results of this review, Commerce will determine, and CBP will assess, antidumping duties on all appropriate entries covered by this review.²⁶ We intend to instruct CBP to liquidate entries of LWRPT exported by Hoa Phat without regard to antidumping duties if these preliminary results are unchanged for the final results. For Hoa Phat, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁶ See 19 CFR 351.212(b)(1).

For Ailong, we will instruct CBP to assess antidumping duties on all appropriate entries at a rate equal to the cash deposit of estimated antidumping duties required at the time of entry, in accordance with 19 CFR 351.212(c)(l)(i). For Ailong, Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of review, as provided for by section 751(a)(2)(C) of the Act: (1) for Hoa Phat, the cash deposit rate will remain unchanged (i.e., 255.07 percent),²⁷ unless the company satisfies the certification requirements in the Final Circumvention Determination; ²⁸ (2) for previously investigated or reviewed Chinese and non-Chinese exporters who are not under review in this segment of the proceeding but who have separate rates, the cash deposit rate will continue to be the exporter specific rate published for the most recent period; (3) for all Chinese exporters of subject merchandise that have not been found to be entitled to a separate rate, the cash deposit rate will be the China-wide rate of 255.07 percent; and (4) for all non-Chinese exporters of subject merchandise which have not received their own rate, the cash deposit rate will be the rate applicable to Chinese exporter(s) that supplied that non-Chinese exporter, or the rate for the China-wide entity (i.e., 255.07), if no alternate rate is available. These deposit requirements, when imposed, shall remain in effect until further notice.

²⁷ See Final Circumvention Determination.

²⁸ Id. at Appendix II for the importer and exporter certifications.

Final Results of Review

Unless otherwise extended, Commerce intends to issue the final results of this administrative review, which will include the results of its analysis of issues raised in any briefs, within 120 days of publication of these preliminary results of review, pursuant to section 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

This determination is issued and published in accordance with sections 751(a)(1) and 777(i)(1) of the Act and 19 CFR 351.221(b)(4).

Dated: September 6, 2024.
Abdelali Elouaradia,
Deputy Assistant Secretary for Enforcement and Compliance.

Appendix—List of Topics Discussed in the Preliminary Decision Memorandum

I. Summary

II. Background

III. Scope of the Order

IV. Partial Rescission of Administrative Review

V. Discussion of Interested Party Comments

VI. Analysis of the Sourcing of the Hot Rolled Steel Hoa Phat Used to Produce LWRPT Exported to the United States

VII. Certification Program

VIII. Recommendation

[FR Doc. 2024-20772 Filed 9-12-24; 8:45 am]

BILLING CODE 3510-DS-P